DEPARTMENT OF COMMERCE

Foreign-Trade Zones Board

[B-26-2014]

Foreign-Trade Zone (FTZ) 39—Dallas-Fort Worth, Texas; Application for Production Authority; CSI Calendering, Inc. (Rubber Coated Textile Fabric); Arlington, Texas

An application has been submitted to the Foreign-Trade Zones Board by the Dallas/Fort Worth International Airport Board, grantee of FTZ 39, requesting production authority on behalf of CSI Calendering, Inc. (CSI), located in Arlington, Texas. The application conforming to the requirements of the regulations of the FTZ Board (15 CFR 400.23) was docketed on March 18, 2014.

The CSI facilities (56 employees) are located at 1119 Commercial Boulevard South and 1120 Commercial Boulevard North, Arlington (Tarrant County), Texas. A separate application for “usage-driven” site designation at the CSI facilities is planned and will be processed under Section 400.24 of the FTZ Board's regulations. The facilities are used for the calendering, slitting, and laminating of certain RFL (resorcinol formaldehyde latex) textile fabrics, as detailed in the application. Production under FTZ procedures could exempt CSI from customs duty payments on the foreign RFL fabrics used in export production. On its domestic sales (currently 100% of shipments), CSI would be able to choose the duty rate during customs entry procedures that applies to rubber coated calendered fabrics (duty free) for the foreign RFL fabrics (duty rates: 12% and 13.6%). Customs duties also could possibly be deferred or reduced on foreign status production equipment. The request indicates that the savings from FTZ procedures would help improve the facilities' international competitiveness.

In accordance with the FTZ Board's regulations, Pierre Duy of the FTZ Staff is designated examiner to evaluate and analyze the facts and information presented in the application and case record and to report findings and recommendations to the FTZ Board.

Public comment is invited from interested parties. Submissions shall be addressed to the FTZ Board's Executive Secretary at the address below. The closing period for their receipt is May 27, 2014. Rebuttal comments in response to material submitted during the foregoing period may be submitted during the subsequent 15-day period to June 9, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: March 18, 2014.
Andrew McGilvray,
Executive Secretary.

[FR Doc. 2014-06578 Filed 3-24-14; 8:45 am]

BILLING CODE 3510-DS-P